DEPARTMENT OF COMMERCE

Submission for OMB Review; Comment Request

The Department of Commerce has submitted to the Office of Management and Budget (OMB) for clearance the following proposal for collection of information under the provisions of the Paperwork Reduction Act (44 U.S.C. Chapter 35).

Agency: Office of the Secretary, Office of Civil Rights.

Title: Request for Reasonable Accommodation.

Form Number(s): CD-575.

OMB Approval Number: None.

Type of Review: Regular submission.

Burden Hours: 2.

Number of Respondents: 20.

Average Hours Per Response: 7 minutes.

Needs and Uses: Under the Rehabilitation Act of 1973, Federal agencies must provide reasonable accommodation to qualified employees or applicants with disabilities, unless to do so would cause the undue hardship. The Department will provide reasonable accommodation to a qualified individual with a disability who is an: Applicant who needs an accommodation in order to be considered for a job (any change to a job application process that enables a qualified applicant with a disability to be considered for the position such qualified applicant desires); employee who needs an accommodation to enable him or her to perform the essential functions of the job or to gain access to the workplace (any change to the work environment, or to the manner or circumstances under which the position held or desired is customarily performed, that enables a qualified individual with a disability to perform the essential functions of that position); or employee who needs an accommodation to enjoy equal benefits and privileges of employment (that which enables an employee with a disability to enjoy equal benefits and privileges of employment as are enjoyed by other similarly situated employees without disabilities). Executive Order 13164 requires Federal agencies to provide written procedures for reasonable accommodation for applicants and employees. Records must be maintained in order to evaluate the fair application of the procedures for the Department.

Affected Public: Individuals or households.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Room 10202, New Executive Office Building, Washington, DC 20503.

Dated: July 17, 2003.
Gwellnar Banks,
Management Analyst, Office of the Chief Information Officer.

[FR Doc. 03-18656 Filed 7-22-03; 8:45 am]

BILLING CODE 3510-BP-P